NATIONAL FOUNDATION ON THE ARTS AND THE HUMANITIES

National Endowment for the Arts

National Council on the Arts 214th Meeting

AGENCY: National Endowment for the Arts, National Foundation on the Arts and Humanities.

ACTION: Notice of meeting.

SUMMARY: Pursuant to section 10(a)(2) of the Federal Advisory Committee Act, as amended, notice is hereby given that a meeting of the National Council on the Arts will be held open to the public by videoconference. Additional sessions will be closed to the public for reasons stated below.

DATES: See the SUPPLEMENTARY INFORMATION section for meeting time and date. The meeting is located in eastern time and the ending time is approximate.

ADDRESSES: The National Endowment for the Arts, Constitution Center, 400 Seventh Street SW, Washington, DC 20560. This meeting will be held by videoconference. Public portions of the meeting will be webcast. Please see arts.gov for the most up-to-date information.

FOR FURTHER INFORMATION CONTACT: Liz Auclair, Office of Public Affairs, National Endowment for the Arts, Washington, DC 20506, at 202/682-5744.

SUPPLEMENTARY INFORMATION: The meeting will take place on October 24 and 25, 2024.The meeting on October 25, 2024, from 11:00 a.m. to 12:45 p.m., will be open to the public by videoconference. If, in the course of the open session discussion, it becomes necessary for the Council to discuss non-public commercial or financial information of intrinsic value, the Council will go into closed session pursuant to subsection (c)(4) of the Government in the Sunshine Act, 5 U.S.C. 552b, and in accordance with the March 11, 2022 determination of the Chair. Additionally, discussion concerning purely personal information about individuals, such as personal biographical and salary data or medical information, may be conducted by the Council in closed session in accordance with subsection (c) (6) of 5 U.S.C. 552b. The meeting session that occurs on October 24, 2024, will be closed to the public for the aforementioned reasons.

Detailed Meeting Information:

Closed Session: October 24, 2024; 11:00 a.m. to 1:30 p.m. Location: Videoconference.

Open Session: October 25, 2024; 11:00 a.m. to 12:45 p.m. Location: Videoconference.

There will be opening remarks and voting on recommendations for grant funding and rejection, updates from NEA Chair Maria Rosario Jackson, and presentations about the state of the nation's Local Arts Agency field. This session will be held open to the public by videoconference. To view the webcasting of this open session of the meeting, go to: https://www.arts.gov/. If you need special accommodations due to a disability, please contact Beth Bienvenu, Office of Accessibility, National Endowment for the Arts, Constitution Center, 400 7th St. SW, Washington, DC 20506, 202/682-5733, Voice/T.T.Y. 202/682-5496, at least seven (7) days prior to the meeting.

Dated: October 1, 2024.
David Travis,
Specialist, Office of Guidelines and Panel Operations.

[FR Doc. 2024-22998 Filed 10-3-24; 8:45 am]

BILLING CODE 7537-01-P